DEPARTMENT OF THE INTERIOR

National Park Service

[2253-665]

Notice of Inventory Completion: U.S. Department of the Interior, Bureau of Indian Affairs, Washington, DC and Sam Noble Oklahoma Museum of Natural History, University of Oklahoma, Norman, OK

AGENCY: National Park Service, Interior.

ACTION: Notice.

SUMMARY: The Bureau of Indian Affairs and Sam Noble Oklahoma Museum of Natural History have completed an inventory of human remains and associated funerary objects, in consultation with the appropriate Indian Tribes, and have determined that there is a cultural affiliation between the human remains and associated funerary objects and a present-day Indian Tribe. Representatives of any Indian Tribe that believes itself to be culturally affiliated with the human remains and associated funerary objects may contact the Sam Noble Oklahoma Museum of Natural History. Repatriation of the human remains and associated funerary objects to the Indian Tribe stated below may occur if no additional claimants come forward.

DATES: Representatives of any Indian Tribe that believes it has a cultural affiliation with the human remains and associated funerary objects should contact the Sam Noble Oklahoma Museum of Natural History at the address below by October 19, 2011.

ADDRESSES: The Director, Sam Noble Oklahoma Museum of Natural History, 2401 Chautauqua, Norman, OK 73072, telephone (405) 325-8978.

SUPPLEMENTARY INFORMATION: Notice is here given in accordance with the Native American Graves Protection and Repatriation Act (NAGPRA), 25 U.S.C. 3003, of the completion of an inventory of human remains and associated funerary objects in the control of the U.S. Department of the Interior, Bureau of Indian Affairs, Washington, DC, and in the possession of the Sam Noble Oklahoma Museum of Natural History, University of Oklahoma, Norman, OK. The human remains and associated funerary objects were removed from Bryan County, OK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Sam Noble Oklahoma Museum of Natural History professional staff in consultation with the Oklahoma State Archeologist and representatives of the Chickasaw Nation, Oklahoma. The Choctaw Nation of Oklahoma also examined the cultural items, but did not express an interest in being a part of the NAGPRA consultation.

History and Description of the Remains

In 1941, human remains representing a minimum of one individual were removed from an unidentified context near a former refuse area at Fort Washita (Colbert Site, 34Br-6), in Bryan County, OK, by Works Progress Administration employees. Fort Washita was abandoned by the War Department after the Civil War. Five years later the land was turned over to the Chickasaw Nation. The property was subsequently allotted to Abbie Davis Colbert and her son, Douglas, in 1906 and 1908. The Colbert family retained the property until they sold it to the State of Oklahoma in 1962. The remains and funerary objects were transferred to the the Stovall Museum of Science and History, now called the Sam Noble Oklahoma Museum of Natural History. No known individual was identified. The 1,532 associated funerary objects are 33 points, 2 drills, 13 biface fragments, 4 bifaces, 119 flakes, 17 blocky debris, 1 hammerstone, 2 manos, 1 groundstone fragment, 1 pottery bowl fragment, 7 undecorated pottery rim sherds, 51 undecorated pottery body sherds, 2 pottery body sherds, 1 pottery base sherd, 2 pieces of daub, 3 pieces of baked clay, 8 buttons, 2 toothbrush fragments, 1 knife handle, 1 knife handle fragment, 1 worked animal bone fragment, 397 animal bone fragments, 11 burned animal bone fragments, 2 boar tusks, 35 animal teeth fragments, 2 mussel shell fragments, 30 ceramic rim sherds, 3 ceramic handle fragments, 3 ceramic handle sherds, 96 ceramic body sherds, 24 ceramic base sherds, 1 ceramic base fragment, 398 pipestem fragments, 6 burned pipestem fragments, 80 pipe bowl fragments, 9 burned pipe bowl fragments, 2 pipe fragments, 4 clay marbles, 16 beads, 11 glass beads, 1 glass ornament, 1 glass stopper, 2 glass stopper fragments, 43 glass bottle fragments, 3 melted glass fragments, 1 molded glass bottle fragment, 3 iron fork fragments, 1 iron knife fragment with bone handle, 1 iron handle, 1 iron handle fragment, 1 iron bowl fragment, 2 iron keys, 1 iron hinge, 1 iron gun hammer, 2 iron gun pieces, 1 fish hook, 12 nails, 1 iron ring, 1 coffee mill, 1 possible iron file, 1 large iron tack, 4 iron rods, 3 unidentified iron fragments, 1 metal tube, 1 scissors fragment, 1 finial fragment, 1 brass gun ring, 2 brass hinges, 2 water taps, 1 brass buckle, 2 percussion caps, 1 brass fragment, 2 possible copper fragments, 2 lead musket balls, 1 lead bullet, 1 lead slug, 2 lead chunks, 1 lead rod, 1 spoon handle, 2 spoon fragments, 2 coins, 1 metal ornament, 1 piece of plaster or concrete, 2 fossils, 9 rocks, 1 rock fragment, 1 sandstone fragment, and 1 unidentified stone.

The skeletal remains consist of fragmentary long bones and cannot be used to conclusively establish cultural affiliation. The physical relationship of the remains to a particular population group (e.g., Native American, European, or African) could not be established. However, affiliation of the remains can be established with some degree of confidence through examination of the archeological and historic context of the remains. This site is adjacent to (or more likely a part of) the use area of historic Fort Washita, which was established by the U.S. Government to protect southeastern removal Tribes (e.g., Chickasaw and Choctaw) from depredations by whites (principally from Texas) and Plains Indian groups (such as the Apache and Comanche). Many Chickasaw congregated around Fort Washita for protection as well as for the economic goods available there. Thus, the resident community of Fort Washita consisted of white soldiers; individuals related to post personnel; traders who operated outside the post; Native Americans (mostly Chickasaws) who settled around the post; and blacks who were slaves of the more affluent Chickasaws. Although the records do not specifically address the presence of human remains from the excavation, the long bones were found in physical association with the other materials from 34Br6. The materials recovered from 34Br6 are those that would be typically associated with refuse disposal, and this refuse area can be identified as principally Native American in origin (probably Chickasaw). This is due to an absence of military hardware and the presence of aboriginal historic ceramics and glass beads although European goods are also abundant within the midden. These facts indicate that the individual from the burial is most likely a person of Chickasaw cultural affiliation.

Determinations Made by the Department of the Interior, Bureau of Indian Affairs and Sam Noble Oklahoma Museum of Natural History

Officials of the Department of the Interior, Bureau of Indian Affairs and Sam Noble Oklahoma Museum of Natural History have determined that:

• Pursuant to 25 U.S.C. 3001(9), the human remains described above represent the physical remains of one individual of Native American ancestry.

• Pursuant to 25 U.S.C. 3001(3)(A), the 1,532 objects described above are reasonably believed to have been placed with or near individual human remains at the time of death or later as part of the death rite or ceremony.

• Pursuant to 25 U.S.C. 3001(2), there is a relationship of shared group identity that can be reasonably traced between the Native American human remains and associated funerary objects and the Chickasaw Nation, Oklahoma.

Additional Requestors and Disposition

Representatives of any other Indian Tribe that believes itself to be culturally affiliated with the human remains and associated funerary objects should contact the Director, Sam Noble Oklahoma Museum of Natural History, 2401 Chautauqua, Norman, OK 73072, telephone (405) 325-8978, before October 19, 2011. Repatriation of the human remains and associated funerary objects to the Chickasaw Nation, Oklahoma, may proceed after that date if no additional claimants come forward.

The Sam Noble Oklahoma Museum of Natural History is responsible for notifying the Chickasaw Nation, Oklahoma, that this notice has been published.

Dated: September 14, 2011.
Sherry Hutt,
Manager, National NAGPRA Program.

[FR Doc. 2011-23969 Filed 9-16-11; 8:45 am]

BILLING CODE 4312-50-P